DEPARTMENT OF TRANSPORTATION

National Highway Traffic Safety Administration

[Docket No. NHTSA-2012-0071]

Agency Information Collection Activity Under OMB Review: Production Plan Reports

AGENCY: National Highway Traffic Safety Administration (NHTSA), Department of Transportation (DOT).

ACTION: Notice and request for comments.

SUMMARY: The Department of Transportation (DOT) invites public comments about our intention to request the Office of Management and Budget (OMB) approval for a renewal of an information collection. The collection involves vehicle manufacturers submitting updated future product plans, as well as production data through the recent past, including data about engines and transmissions for model year (MY) 2012 through MY 2025 passenger cars and light trucks and the assumptions underlying those plans.

The information to be collected will be used to assist NHTSA with the setting of future fuel economy standards for light duty vehicles. We are required to publish this notice in the Federal Register by the Paperwork Reduction Act of 1995, Public Law 104-13.

DATES: Written comments should be submitted by August 13, 2012.

ADDRESSES: You may submit comments [identified by Docket No. NHTSA-2012-0071] through one of the following methods:

• Federal eRulemaking Portal: http://www.regulations.gov. Follow the online instructions for submitting comments.

• Fax: 1 (202) 493-2251

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Kenneth R. Katz, Fuel Economy Division, Office of International Policy, Fuel Economy and Consumer Programs, NVS-132, National Highway Traffic Safety Administration, U.S. Department of Transportation, 1200 New Jersey Avenue SE., Washington, DC 20590. Phone: (202) 366-4936.

SUPPLEMENTARY INFORMATION: OMB Control Number: 2127-0655.

Title: 49 CFR Parts 531 and 533 Passenger Car Average Fuel Economy Standards—Model Years 2016-2025; Light Truck Average Fuel Economy Standards—Model Years 2016-2025; Production Plan Data.

Type of Review: Extension of existing collection.

Background: In this collection of information, NHTSA is requesting updated future product plans from vehicle manufacturers, as well as production data through the recent past, including data about engines and transmissions for model year MY 2012 through MY 2025 passenger cars and light trucks and the assumptions underlying those plans.

NHTSA requests information for MYs 2012-2025 to aid NHTSA in developing a realistic forecast of the MY 2016-2025 vehicle market. Information regarding earlier model years may help the agency to better account for cumulative effects such as volume-and time-based reductions in costs, and also may help to reveal product mix and technology application trends during model years for which the agency is currently receiving actual corporate average fuel economy (CAFE) compliance data. Information regarding later model years helps the agency gain a better understanding of how manufacturers' plans through MY 2025 relate to their longer-term expectations regarding Energy Independence and Security Act requirements, market trends, and prospects for more advanced technologies.

NHTSA will also consider information from model years before and after MYs 2016-2025 when reviewing manufacturers' planned schedules for redesigning and freshening their products, in order to examine how manufacturers anticipate tying technology introduction to product design schedules. In addition, the agency is requesting information regarding manufacturers' estimates of the future vehicle population, and fuel economy improvements and incremental costs attributed to this notice.

Respondents: Automobile manufacturers.

Estimated Number of Respondents: Thirty.

Estimated Number of Responses: Thirty.

Estimated Total Annual Burden: Reports are requested from each of the thirty automotive manufacturers. For each manufacturer who supplies product plan reports, NHTSA has made available a product plan template, which can be found at: http://www.nhtsa.gov/Laws+&+Regulations/CAFE+-+Fuel+Economy/Current+and+past+product+plan+requests. NHTSA currently has a clearance for 16,000 hours, based on reports being received from 22 manufacturers. Including reports from eight additional manufacturers, most of which produce approximately 500 vehicles per year, results in an additional reporting burden of 500 hours. Adding that burden to the existing burden of 16,000, results in a total reporting burden of 16,500 hours. The information requested in the templates may change from request to request as new fuel economy technologies are implemented, which may increase the amount of information requested, and as older technologies are phased out, which may decrease the amount of information requested. Therefore, the time needed to complete the templates may vary for each product plan request. Although the reporting burden may not be precisely 16,500 hours for each specific product plan request, NHTSA believes that, based on prior experience, that this burden is representative and accurate for the purposes of this clearance.

Estimated Frequency: Manufacturer product plans are requested each time that NHTSA initiates a rulemaking for light-duty fuel economy standards. These standards may be issued for a one to five year time frame, thus manufacturers would be expected to provide these reports every one to five years. Recent NHTSA rulemakings have typically ranged between three and five years. NHTSA generally requests products plans prior to issuing a notice of proposed rulemaking and prior to the issuance of a final rule. Since the gap between the two rules generally is less than a year, manufacturers would be expected to provide two reports for each rulemaking cycle.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Issued on: June 6, 2012.
Christopher J. Bonanti,
Associate Administrator for Rulemaking.

[FR Doc. 2012-14213 Filed 6-11-12; 8:45 am]

BILLING CODE P